DEPARTMENT OF COMMERCE

National Oceanic and Atmospheric Administration

RIN 0648-XA286

Western Pacific Fishery Management Council; Public Meeting

AGENCY: National Marine Fisheries Service (NMFS), National Oceanic and Atmospheric Administration (NOAA), Commerce.

ACTION: Notice of public meetings.

SUMMARY: The Western Pacific Fishery Management Council (Council) will hold a Western Pacific Stock Assessment Review (WPSAR).

DATES: The meeting of the WPSAR will be held on April 5-7, from 8:30 a.m. to 5 p.m. each day.

ADDRESSES: The meeting will be held at the Ilima Room, Ala Moana Hotel, 410 Atkinson Drive, Honolulu, HI 96814, telephone: (808) 955-4811.

FOR FURTHER INFORMATION CONTACT: Kitty M. Simonds, Executive Director; telephone: (808) 522-8220.

SUPPLEMENTARY INFORMATION: The WPSAR will meet to review new information on the Essential Fish Habitat (EFH) and Habitat of Particular Concern (HAPC) for deep slope bottomfish in the Main Hawaiian Islands. The Magnuson-Stevenson Act mandates regional fisheries management councils and NOAA Fisheries to conduct a review and revision of the EFH components of fisheries management plans every 5 years (600-815, section 10). The second cycle for such reviews since the Act was put into effect was scheduled for 2009. The process has two parts, beginning with NOAA Fisheries identifying any new information relevant to EFH and HAPC definitions that include, but are not limited to, evaluating published scientific literature and unpublished scientific reports; soliciting information from interested parties; and searching for previously unavailable or inaccessible data. Once this first step is completed, NOAA Fisheries is then required to develop written recommendations to assist each Council in the identification of EFH, adverse impacts to EFH, and actions that should be considered to ensure the conservation and enhancement of EFH for each Fishery Management Plan. The Act requires that both steps of the process be conducted in consultation with the Councils, participants in the fishery, interstate commissions, Federal agencies, state agencies, and other interested parties.

The National Marine Fisheries Service has completed this process for deep slope bottomfish in the Main Hawaiian Islands, and the outcomes of the EFH/HAPC review will be subjected to independent peer review and scrutiny under the WPSAR process, which will inform the Western Pacific Regional Fishery Management Council whether the information is sufficient to amend the EFH/HAPC definitions in the Hawaii Archipelago Fisheries Ecosystem Plan.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 8, 2011.
Tracey L. Thompson,
Acting Director, Office of Sustainable Fisheries, National Marine Fisheries Service.

[FR Doc. 2011-5697 Filed 3-11-11; 8:45 am]

BILLING CODE 3510-22-P